DEPARTMENT OF ENERGY

Federal Energy Regulatory Commission

[Project No. 10853-022]

Otter Tail Power Company; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 10853-022.

c. Date Filed: November 27, 2019.

d. Applicant: Otter Tail Power Company.

e. Name of Project: Otter Tail River Hydroelectric Project.

f. Location: The Otter Tail River Hydroelectric Project consists of five developments on the Otter Tail River that starts in the Township of Friberg, Minnesota and extends downstream (south) of the City of Fergus Falls, Minnesota. The project does not occupy federal land.

g. Filed Pursuant to: Federal Power Act 16 U.S.C. 791(a)-825(r).

h. Applicant Contact: Michael Olson, Natural Gas Turbine Operations and NERC Compliance, Otter Tail Power Company, 215 South Cascade Street, Fergus Falls, Minnesota 56537; (218) 739-8411; mjolson@otpco.com.

i. FERC Contact: Patrick Ely at (202) 502-8570 or email at patrick.ely@ferc.gov.

j. Deadline for filing motions to intervene and protests, comments, recommendations, preliminary terms and conditions, and preliminary prescriptions: 60 Days from the issuance date of this notice; reply comments are due 105 days from the issuance date of this notice.

The Commission strongly encourages electronic filing. Please file motions to intervene, protests, comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The Otter Tail River Project consists of the following five existing developments listed upstream to downstream: (1) Friberg development; (2) Hoot development; (3) Central development; (4) Pisgah development; and (5) Dayton Hollow development.

The Friberg development consists of: (1) A reservoir with a surface area of 340 acres, and negligible storage capacity, at a normal water surface elevation of 1,299 feet mean sea level (msl); (2) a 341-foot-long dam which contains a 31-foot-high and 61-foot-long spillway with seven bays, an 80-foot-long and 36-foot-high east earthfill dike, and a 200-foot-long and 36-foot-high west earthfill dike; (3) a power canal; (4) a 194-foot-long, 9-foot-diameter penstock; (5) a 27-foot-wide and 27-foot-long reinforced concrete powerhouse; (6) a vertical turbine rated at 900 horsepower (hp) under a head of 35 feet, connected to a 560-kilowatt (kW) generator; (7) a tailrace; (8) a 75-foot-long, 2.4-kilovolt (kV) transmission line; and (9) appurtenant facilities.

The Hoot development facilities include: (1) A reservoir with a negligible surface area and storage capacity (dam diverts river flow) at a normal water surface elevation of 1,256 feet msl; (2) a 150-foot-long, 9-foot-high dam which contains a concrete spillway with six stoplogged openings with the two outer openings 5 feet 4 inches wide and the other four openings 11 feet 4 inches wide; (3) a 500-foot-long, 90-inch-diameter concrete tunnel (Hoot Lake); (4) a 20-foot-wide, 700-foot-long channel between Hoot Lake and Wright Lake; (5) a 20-foot-wide, 300-foot-long channel leading to the intake structure; (6) a 1,050-foot-long, 8-foot-square concrete tube; (7) a surge tank; (8) an 89-foot-long, 6-foot-diameter steel penstock; (9) a reinforced concrete powerhouse; (10) a horizontal turbine rated at 1,260 hp under a head of 68 feet connected to a 1,000-kw generator; (11) a tailrace; (12) a 200-foot-long, 2.4-kV transmission line; (13) a nature-like fishway; and (14) appurtenant facilities.

The Central development consists of: (1) A reservoir having a surface area of 15 acres and a storage capacity of 400 acre-feet, at a normal water surface elevation of 1,181 feet msl; (2) a 107-foot-long and 25-foot-high dam which contains a 70-foot-long and 25-foot-high spillway; (3) an intake structure; (4) a 30-foot-wide and 40-foot-long brick masonry powerhouse; (5) a vertical turbine rated at 720 hp under a head of 22 feet, connected to a 400-kW generator; (6) a tailrace; (7) a 40-foot-long, 2.4-kV transmission line; and (8) appurtenant facilities.

The Pisgah development consists of: (1) A reservoir having a surface area of 70 acres and storage capacity of 250 acre-feet at a normal water surface elevation of 1,156 feet msl; (2) a 493-foot-long concrete gravity and earthfill dam ranging in height from 21 feet to 38 feet which has (a) an earthfill dike, (b) a 123-foot-long and 38-foot-high concrete wing wall, (c) six spillway bays, (d) a 150-foot-long and 21-foot-high south earthfill embankment, and (e) a 220-foot-long and 38-foot-high north earthfill embankment; (3) an intake; (4) a 22-foot-wide and 32-foot-long reinforced concrete and brick masonry powerhouse; (5) a vertical turbine rated at 850 hp under a head of 25 feet, connected to a 520-kW generator; (6) a tailrace; (7) a 330-foot-long, 2.4-kV transmission line; and (8) appurtenant facilities.

The Dayton Hollow development consists of: (1) A reservoir having a surface area of 230 acres and a storage capacity of 5,000 acre-feet at a normal water surface elevation of 1,107 feet msl; (2) a 265-foot-long concrete and earthfill dam varying in height from 11 feet to 40 feet which contains (a) an 80-foot-long and 40-foot-high concrete spillway section, (b) a 95-foot-long and 11-foot-high east earthfill embankment, and (c) a 90-foot-long and 22-foot-high west earthfill embankment; (3) an intake structure; (4) a 22-foot-wide and 32-foot-long reinforced concrete and masonry powerhouse; (5) a vertical turbine rated at 800 hp under a head of 35 feet, connected to a 520-kW generator and a horizontal 650 hp turbine connected to a 450-kW generator; (6) a tailrace; (7) an 80-foot- long, 2.4-kV transmission line; and (8) appurtenant facilities.

The Otter Tail River Project is operated in a run-of-river mode with an estimated annual energy production of approximately 22,323 megawatt hours. Otter Tail Power Company proposes to continue operating the project as a run-of-river facility and does not propose any new construction or modifications to the project.

m. In addition to publishing the full text of this notice in the Federal Register, the Commission provides all interested persons an opportunity to view and/or print the contents of this notice, as well as other documents in the proceeding (e.g., license application) via the internet through the Commission's Home Page (http://www.ferc.gov) using the eLibrary link. Enter the docket number excluding the last three digits in the docket number field to access the document (P-10853). At this time, the Commission has suspended access to the Commission's Public Reference Room due to the proclamation declaring a National Emergency concerning the Novel Coronavirus Disease (COVID-19) issued by the President on March 13, 2020. For assistance, contact FERC at FERCOnlineSupport@ferc.gov or call toll-free, (886) 208-3673 or (202) 502-8659 (TTY).

You may also register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title PROTEST, MOTION TO INTERVENE, COMMENTS, REPLY COMMENTS, RECOMMENDATIONS, PRELIMINARY TERMS AND CONDITIONS, or PRELIMINARY FISHWAY PRESCRIPTIONS; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following revised Hydro Licensing Schedule. Revisions to the schedule may be made as appropriate.

Milestone | Target date
Filing of recommendations, preliminary terms and conditions, and preliminary fishway prescriptions | July 2020.
Commission issues EA | January 2021.
Comments on EA | February 2021.
Modified terms and conditions | April 2021.

p. Final amendments to the application must be filed with the Commission no later than 30 days from the issuance date of this notice.

Dated: May 19, 2020.
Kimberly D. Bose,
Secretary.

[FR Doc. 2020-11239 Filed 5-22-20; 8:45 am]

BILLING CODE 6717-01-P